DEPARTMENT OF TRANSPORTATION

Office of the Secretary

[Docket No. DOT-OST-2014-0073]

Information Collection Activity; Request for Comments

AGENCY: Office of the Secretary of Transportation (OST), U.S. Department of Transportation (DOT).

ACTION: Notice of request for comments.

SUMMARY: In compliance with the Paperwork Reduction Act of 1995 (44 U.S.C. 3501 et seq.), this notice announces that the Information Collection Request (ICR) described below will be forwarded to the Office of Management and Budget (OMB) for review and comment. The ICR describes the nature of the information collection and its expected burden. A Federal Register Notice with a 60-day comment period soliciting comments on the ICR was published on Monday, June 30, 2014. The agency did not receive any comments.

DATES: Comments must be submitted on or before September 26, 2014.

ADDRESSES: Send comments regarding the burden estimate, including suggestions for reducing the burden, to the Office of Management and Budget, Attention: Desk Officer for U.S. Department of Transportation, Office of the Secretary of Transportation, 725 17th Street NW., Washington, DC 20503, email: oira_submission@omb.eop.gov. Fax: (202) 395-5806.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

A comment to OMB is most effective if OMB receives it within 30 days of publication of this notice.

FOR FURTHER INFORMATION CONTACT: Leonardo San Roman, Office of Small and Disadvantaged Business Utilization, Office of the Secretary, W56-312, Department of Transportation, 1200 New Jersey Avenue SE., Washington, DC 20590, (202) 366-1930.

SUPPLEMENTARY INFORMATION: Title: U.S. Department of Transportation Mentor-Protégé Pilot Program Evaluation Form; and U.S. Department of Transportation Mentor Protégé Pilot Program Annual Report.

Abstract: The DOT will review Mentor-Protégé agreements made by mentors and protégés to validate their eligibility for the program. In addition, DOT will also use the annual reports submitted jointly by program participants to identify best practices or suggestions that small businesses may wish to implement to increase their participation in federal procurement programs. Finally, DOT will use the Mentor-Protégé Pilot Program Evaluation Form to get feedback on the program, including suggestions for improvements from program participants.

Type of Information Collection: New Information Collection Request.

Form: Mentor Protégé agreement.

Affected Public: Prime contractors and small businesses participating in DOT's Mentor Protégé Program.

Estimated Annual Number of Responses: Approximately 8.

Frequency: One-time.

Estimated Average Burden per Response: 4 hours.

Estimated Total Annual Burden Hours: 32 hours.

Form: Mentor Protégé program annual report.

Type of Review: New Information Collection.

Affected Public: Prime contractors and small businesses participating in DOT's Mentor Protégé Program.

Estimated Annual Number of Responses: 8.

Frequency: One-time.

Estimated Average Burden per Response: 1 hour.

Estimated Total Annual Burden Hours: 8 hours.

Form: Mentor Protégé program evaluation form.

Type of Review: New Information Collection.

Affected Public: Prime contractors and small businesses participating in DOT's Mentor Protégé Program.

Estimated Annual Number of Responses: 16.

Frequency: One-time.

Estimated Average Burden per Response: 1 hour per respondent.

Estimated Total Annual Burden Hours: 16 hours.

Authority: The Paperwork Reduction Act of 1995; 44 U.S.C. 3501-3520, as amended; and 49 CFR 1:48.

Issued in Washington, DC, on August 19, 2014.
Patricia Lawton,
Departmental PRA Program Manager, Office of the Secretary.

[FR Doc. 2014-20368 Filed 8-26-14; 8:45 am]

BILLING CODE 4910-9X-P